FEDERAL COMMUNICATIONS COMMISSION

47 CFR Part 54

[CC Docket No. 96-45; DA 00-1536]

Comment Sought on Federal-State Joint Board on Universal Service Recommendations for Phasing Down Interim Hold-Harmless Provision

AGENCY: Federal Communications Commission.

ACTION: Solicitation of comments.

SUMMARY: This document seeks comment on the Federal-State Joint Board on Universal Service recommended decision for phasing down the interim hold-harmless provision of the new, forward-looking high-cost universal service support mechanism for non-rural carriers.

DATES: Submit comments on or before August 14, 2000 and reply comments on or before August 28, 2000.

ADDRESSES: See Supplementary Information section for where and how to file comments.

FOR FURTHER INFORMATION CONTACT: Bill J. Scher (202) 418-7400 TTY: (202) 418-0484.

SUPPLEMENTARY INFORMATION: On June 30, 2000, the Federal-State Joint Board on Universal Service (Joint Board) released a Recommended Decision for phasing down the interim hold-harmless provision of the new, forward-looking high-cost universal service support mechanism for non-rural carriers. The Joint Board recommended that Long Term Support (LTS) be maintained under the Commission's current rules until the Commission considers appropriate reforms for the LTS program in connection with the pending proceedings for high-cost reform for rural carriers and/or interstate access charge reform for rate-of-return carriers. The Joint Board further recommended that the Commission phase down the balance of interim hold-harmless support, excluding LTS, through $1.00 reductions in average monthly, per-line support beginning January 1, 2001, and every year thereafter. Finally, the Joint Board recommended against phasing down any interim hold-harmless support that is transferred to a rural carrier when it acquires exchanges from a non-rural carrier. Instead, the Joint Board recommended that such transferred interim hold-harmless support should be maintained until the Commission completes a review of the rule governing the transfer of universal service support or until rural high-cost reform is complete. In this document, the Common Carrier Bureau seeks comment on the Joint Board's recommendations.

Filing Procedures

Pursuant to §§ 1.415 and 1.419 of the Commission's rules, interested parties may file comments on the Recommended Decision on or before August 14, 2000, and reply comments on or before August 28, 2000. Comments may be filed using the Commission's Electronic Comment Filing System (ECFS) or by filing paper copies. See Electronic Filing of Documents in Rulemaking Proceedings, 63 FR 24121 (1998).

Comments filed through the ECFS can be sent as an electronic file via the Internet to <http://www.fcc.gov/e-file/ecfs.html>. Generally, only one copy of an electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address.” A sample form and directions will be sent in reply.

Parties who choose to file by paper must file an original and four copies of each filing. All filings must be sent to the Commission's Secretary, Magalie Roman Salas, Office of the Secretary, Federal Communications Commission, 445 12th Street, SW., Washington, DC 20554. Parties also must send three paper copies of their filing to Sheryl Todd, Accounting Policy Division, Common Carrier Bureau, Federal Communications Commission, 445 Twelfth Street SW., Room 5-B540, Washington, DC 20554. In addition, commenters must send diskette copies to the Commission's copy contractor, International Transcription Service, Inc., 1231 20th Street, NW., Washington, DC 20037.

Pursuant to § 1.1206 of the Commission's rules, this proceeding will be conducted as a permit-but-disclose proceeding in which ex parte communications are permitted subject to disclosure.

Dated: July 12, 2000.
Katherine L. Schroder,
Deputy Chief, Accounting Policy Division.

[FR Doc. 00-18036 Filed 7-17-00; 8:45 am]

BILLING CODE 6712-01-U